DEPARTMENT OF ENERGY

Federal Energy Regulatory Commission

Combined Notice of Filings #1

Take notice that the Commission received the following electric corporate filings:

Docket Numbers: EC19-92-000.

Applicants: Broadlands Wind Farm LLC, Lexington Chenoa Wind Farm LLC.

Description: Application for Authorization Under Section 203 of the Federal Power Act, et al. of Broadlands Wind Farm LLC, et al.

Filed Date: 5/23/19.

Accession Number: 20190523-5208.

Comments Due: 5 p.m. ET 6/13/19.

Docket Numbers: EC19-93-000.

Applicants: Stream Energy Columbia, LLC, Stream Energy Delaware, LLC, Stream Energy Illinois, LLC, Stream Energy Maryland, LLC, Stream Energy New Jersey, LLC, Stream Energy New York, LLC, Stream Ohio Gas & Electric, LLC, Stream Energy Pennsylvania, LLC, SGE Energy Sourcing, LLC, NRG Retail LLC.

Description: Application For Authorization Under Section 203 Of The Federal Power Act, etal.of Stream Energy Columbia, LLC, et al.

Filed Date: 5/24/19.

Accession Number: 20190524-5141.

Comments Due: 5 p.m. ET 6/14/19.

Take notice that the Commission received the following electric rate filings:

Docket Numbers: ER10-1836-014; ER10-1841-013; ER10-1843-013; ER10-1844-013; ER10-1845-013; ER10-1852-026; ER10-1897-013; ER10-1905-013; ER10-1907-012; ER10-1918-013; ER10-1925-013; ER10-1927-013; ER10-1950-013; ER10-1964-013; ER10-1970-013; ER10-1972-013; ER10-1983-013; ER10-1984-013; ER10-2005-013; ER10-2006-014; ER10-2078-014; ER11-26-013; ER11-4462-033; ER12-1660-013; ER13-2458-008; ER13-2461-008; ER16-1872-004; ER16-2506-005; ER17-2270-005; ER17-838-008; ER18-1771-003; ER18-2224-003; ER18-2246-002; ER19-1003-001; ER19-1393-001; ER19-1394-001; ER19-987-001.

Applicants: Ashtabula Wind, LLC, Ashtabula Wind II, LLC, Ashtabula Wind III, LLC, Butler Ridge Wind Energy Center, LLC, Crystal Lake Wind Energy I, LLC, Crystal Lake Wind Energy II, LLC, Crystal Lake Wind, LLC, Crystal Lake Wind II, LLC, Crystal Lake Wind III, LLC, Endeavor Wind I, LLC, Endeavor Wind II, LLC, Florida Power & Light Company, FPL Energy Hancock County Wind, LLC, FPL Energy Mower County, LLC, FPL Energy North Dakota Wind, LLC, FPL Energy North Dakota Wind II, LLC, FPL Energy Oliver Wind I, LLC, FPL Energy Oliver Wind II, LLC, Garden Wind, LLC, Hawkeye Power Partners, LLC, Heartland Divide Wind Project, LLC, Lake Benton Power Partners II, LLC, Langdon Renewables, LLC, Marshall Solar, LLC, NextEra Energy Duane Arnold, LLC, NextEra Energy Point Beach, LLC, Oliver Wind III, LLC, Osceola Windpower, LLC, Osceola Windpower II, LLC, Pegasus Wind, LLC, Pheasant Run Wind, LLC, Stuttgart Solar, LLC, Tuscola Bay Wind, LLC, Tuscola Wind II, LLC, White Oak Energy LLC, NEPM II, LLC, NextEra Energy Marketing, LLC.

Description: Notification of Change in Status of NextEra Resources Entities.

Filed Date: 5/23/19.

Accession Number: 20190523-5235.

Comments Due: 5 p.m. ET 6/13/19.

Docket Numbers: ER15-1434-003.

Applicants: ISO New England Inc., Emera Maine.

Description: Compliance filing: Emera Maine Joint Offer of Settlement Re: Bangor Maine Hydro District Charges to be effective N/A.

Filed Date: 5/24/19.

Accession Number: 20190524-5159.

Comments Due: 5 p.m. ET 6/14/19.

Docket Numbers: ER18-2400-002.

Applicants: New York Independent System Operator, Inc.

Description: Compliance filing: NYISO effective date notice: Order 844 Operator Commitment Report Tariff Langua to be effective 6/11/2019.

Filed Date: 5/24/19.

Accession Number: 20190524-5165.

Comments Due: 5 p.m. ET 6/14/19.

Docket Numbers: ER19-603-002.

Applicants: PJM Interconnection, L.L.C.

Description: Compliance filing: Compliance Filing to Modify ICSA No. 5250 re: May 10, 2019 Order to be effective 5/13/2019.

Filed Date: 5/24/19.

Accession Number: 20190524-5161.

Comments Due: 5 p.m. ET 6/14/19.

Docket Numbers: ER19-1145-001.

Applicants: PPL Electric Utilities Corporation, PJM Interconnection, L.L.C.

Description: Compliance filing: PPL submits a compliance filing per the Commission's 4/29/19 order in ER19-1145 to be effective 6/1/2019.

Filed Date: 5/24/19.

Accession Number: 20190524-5089.

Comments Due: 5 p.m. ET 6/14/19.

Docket Numbers: ER19-1536-001.

Applicants: Dominion Energy South Carolina, Inc.

Description: Tariff Amendment: Amendment of Pending Tariff Filing to be effective 4/8/2019.

Filed Date: 5/24/19.

Accession Number: 20190524-5047.

Comments Due: 5 p.m. ET 6/14/19.

Docket Numbers: ER19-1817-001.

Applicants: Virginia Electric and Power Company.

Description: Compliance filing: Supplemental—Birchwood ER19-1817 to be effective N/A.

Filed Date: 5/9/19.

Accession Number: 20190509-5132.

Comments Due: 5 p.m. ET 5/30/19.

Docket Numbers: ER19-1970-000.

Applicants: Illinois Power Generating Company.

Description: Tariff Cancellation: Notice of Cancellation and Request for Waiver to be effective 5/3/2010.

Filed Date: 5/23/19.

Accession Number: 20190523-5175.

Comments Due: 5 p.m. ET 6/13/19.

Docket Numbers: ER19-1971-000.

Applicants: Illinois Power Resources Generating, LLC.

Description: Tariff Cancellation: Notice of Cancellation and Request for Waiver to be effective 5/3/2010.

Filed Date: 5/23/19.

Accession Number: 20190523-5176.

Comments Due: 5 p.m. ET 6/13/19.

Docket Numbers: ER19-1972-000.

Applicants: Saguaro Power Company, A Limited Partner.

Description: § 205(d) Rate Filing: Revision to Market Based Rate to be effective 5/28/2019.

Filed Date: 5/24/19.

Accession Number: 20190524-5000.

Comments Due: 5 p.m. ET 6/14/19.

Docket Numbers: ER19-1973-000.

Applicants: Trigen-St. Louis Energy Corporation.

Description: Notice of Cancellation of Market-Based Rate Tariff of Trigen-St. Louis Energy Corporation.

Filed Date: 5/23/19.

Accession Number: 20190523-5217.

Comments Due: 5 p.m. ET 6/13/19.

Docket Numbers: ER19-1974-000.

Applicants: PJM Interconnection, L.L.C.

Description: § 205(d) Rate Filing: Original CRA, Service Agreement No. 5407, Non-Queue No. NQ159 to be effective 5/1/2019.

Filed Date: 5/24/19.

Accession Number: 20190524-5063.

Comments Due: 5 p.m. ET 6/14/19.

Docket Numbers: ER19-1975-000.

Applicants: Southwest Power Pool, Inc.

Description: § 205(d) Rate Filing: 3317R1 WAPA & East River Electric Power Interconnection Agr to be effective 5/20/2019.

Filed Date: 5/24/19.

Accession Number: 20190524-5085.

Comments Due: 5 p.m. ET 6/14/19.

Docket Numbers: ER19-1976-000.

Applicants: Southwest Power Pool, Inc.

Description: § 205(d) Rate Filing: 1534R10 Kansas Municipal Energy Agency NITSA NOA) to be effective 5/1/2019.

Filed Date: 5/24/19.

Accession Number: 20190524-5087.

Comments Due: 5 p.m. ET 6/14/19.

Docket Numbers: ER19-1977-000.

Applicants: Tampa Electric Company.

Description: Initial rate filing: Rate Schedule No. 101—IOA w City of Lakeland to be effective 6/1/2019.

Filed Date: 5/24/19.

Accession Number: 20190524-5090.

Comments Due: 5 p.m. ET 6/14/19.

Docket Numbers: ER19-1978-000.

Applicants: Tampa Electric Company.

Description: Initial rate filing: Rate Schedule No. 102—Borderline Service Power Sales Agmt w_City of Lakeland to be effective 6/1/2019.

Filed Date: 5/24/19.

Accession Number: 20190524-5091.

Comments Due: 5 p.m. ET 6/14/19.

Docket Numbers: ER19-1980-000.

Applicants: Southwest Power Pool, Inc.

Description: § 205(d) Rate Filing: 3555 Haystack Wind Project, LLC GIA to be effective 5/10/2019.

Filed Date: 5/24/19.

Accession Number: 20190524-5120.

Comments Due: 5 p.m. ET 6/14/19.

Docket Numbers: ER19-1981-000.

Applicants: PJM Interconnection, L.L.C.

Description: § 205(d) Rate Filing: Revised DEA, Service Agreement No. 4310, Project Nos. b2633.1 and b2633.2 to be effective 4/25/2019.

Filed Date: 5/24/19.

Accession Number: 20190524-5140.

Comments Due: 5 p.m. ET 6/14/19.

Docket Numbers: ER19-1982-000.

Applicants: PJM Interconnection, L.L.C.

Description: Compliance filing: Compliance Filing to Modify ICSA No. 5250 re: May 10, 2019 Order to be effective 5/13/2019.

Filed Date: 5/24/19.

Accession Number: 20190524-5151.

Comments Due: 5 p.m. ET 6/14/19.

Docket Numbers: ER19-1983-000.

Applicants: Illinois Power Generating Company.

Description: Tariff Cancellation: Notice of Cancellation to be effective 7/24/2019.

Filed Date: 5/24/19.

Accession Number: 20190524-5167.

Comments Due: 5 p.m. ET 6/14/19.

Docket Numbers: ER19-1984-000.

Applicants: Illinois Power Resources Generating, LLC.

Description: Tariff Cancellation: Notice of Cancellation to be effective 7/24/2019.

Filed Date: 5/24/19.

Accession Number: 20190524-5172.

Comments Due: 5 p.m. ET 6/14/19.

Docket Numbers: ER19-1985-000.

Applicants: PJM Interconnection, L.L.C.

Description: § 205(d) Rate Filing: First Revised ISA, SA No. 4757; Queue No. AA2-116/AC1-141 to be effective 4/24/2019.

Filed Date: 5/24/19.

Accession Number: 20190524-5188.

Comments Due: 5 p.m. ET 6/14/19.

Docket Numbers: ER19-1986-000.

Applicants: Southern California Edison Company.

Description: § 205(d) Rate Filing: Second Amended LGIA Gaskell West TOT727 to be effective 5/25/2019.

Filed Date: 5/24/19.

Accession Number: 20190524-5205.

Comments Due: 5 p.m. ET 6/14/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 24, 2019.
Nathaniel J. Davis, Sr.,
Deputy Secretary.

[FR Doc. 2019-11364 Filed 5-30-19; 8:45 am]

BILLING CODE 6717-01-P